DEPARTMENT OF HEALTH AND HUMAN SERVICES

Biodefense Summit: Implementing the National Biodefense Strategy: Notification of Public Meeting and Solicitation of Advice

AGENCY: Office of the Assistant Secretary for Preparedness and Response (ASPR), Department of Health and Human Services (HHS).

ACTION: Notice.

SUMMARY: The HHS Assistant Secretary for Preparedness and Response (ASPR) in the Department of Health and Human Services (HHS) is announcing a public meeting, Biodefense Summit: Implementing the National Biodefense Strategy (Strategy). Implementing the Strategy involves partners among multiple sectors, including medical; public, animal, and plant health; emergency response; scientific and technical; law enforcement; industrial; academic; diplomatic; defense and security; intelligence; and nonproliferation and counterproliferation stakeholders. This meeting is being held to introduce the Strategy to these groups and to solicit feedback from them. The meeting will be open to representatives from invited organizations and the public.

DATES: The meeting will be held on April 17, 2019, from 8:45 a.m. to 5:00 p.m.

ADDRESSES: National Academies of Sciences Building, 2101 Constitution Ave. NW, Washington, DC 20418.

FOR FURTHER INFORMATION CONTACT: CAPT Theresa Lawrence, Ph.D.; Director, Division of Policy, Office of Strategy, Policy, Planning, and Requirements, Office of the Assistant Secretary for Preparedness and Response, Office of the Secretary of the Department of Health and Human Services; Thomas P. O'Neill Jr. Federal Building; 200 C St SW, Washington, DC 20515; Theresa.Lawrence@HHS.GOV; 202-401-5879

SUPPLEMENTARY INFORMATION:

Agenda: On April 17, 2019, ASPR will convene a meeting at the National Academies of Sciences Building, 2101 Constitution Ave. NW, Washington, DC 20418 from 8:45 a.m.-5:00 p.m. with non-federal stakeholders to discuss and solicit input on implementing the National Biodefense Strategy, pursuant to National Security Presidential Memorandum 14, signed September 18, 2018.

The meeting will focus on a set of questions on the meeting agenda, posted at http://www.phe.gov/biodefense, on which the U.S. Government would specifically like to solicit comment. These questions concern matters such as the identification of gaps and opportunities for improvement in biodefense.

The meeting will be conducted as a series of panels where participants will be asked to discuss particular topics of interest to the Government. Each panel will include ample time for in-depth discussion of the issues surrounding each topic.

The meeting is open to the public and free of charge. Pre-registration is encouraged, however, registration will be restricted due to limited space. Information about registering for the meeting is available at http://www.phe.gov/biodefense. Any groups or individuals who cannot attend the meeting are encouraged to submit written comments.

Background: Biological threats are among the most serious threats facing the United States. In today's interconnected world, biological incidents have the potential to cost thousands of American lives, cause significant anxiety, and disrupt travel and trade. The Strategy sets the course for the United States to combat the serious biothreats our country faces, whether they arise from natural outbreaks of disease, accidents involving high consequence pathogens, or the actions of terrorists or state actors. Preparing for biothreats is a critical aspect of our national security, and the Strategy encompasses five goals for strengthening the biodefense enterprise including:

1. Enabling risk awareness to inform decision-making across the biodefense enterprise;

2. Ensuring biodefense enterprise capabilities to prevent bioincidents;

3. Ensuring biodefense enterprise preparedness to reduce the impacts of bioincidents;

4. Rapidly responding to limit the impacts of bioincidents; and

5. Facilitating recovery to restore the community, the economy, and the environment after a bioincident.

The National Biodefense Strategy calls for engagement and cooperation across all levels of government, to include state, local, tribal, and territorial governments, as well as internationally. It involves partnership with multiple sectors, including the medical; public, animal, and plant health; emergency response; scientific and technical; law enforcement; industrial; academic; diplomatic; defense and security; intelligence; and nonproliferation and counterproliferation sectors, among others. Engagement with non-governmental organizations and the private sector is critical to prevent the spread of disease and respond to the next outbreak before it becomes an epidemic.

Streaming Webcast of the Public Meeting: This public meeting will also be webcast. Information about registering for the webcast will be available at http://www.phe.gov/biodefense.

Meeting Summary: Please be advised that a summary of the meeting will be accessible at http://www.phe.gov/biodefense as soon as it is available.

Written Public Input is Encouraged: Even though space or time constraints may preclude some interested members of the public from attending, we understand that these issues are broadly of interest to the American people. Given the importance of the Nation's biodefense to every American, the public is encouraged to submit written comments on a set of questions on the meeting agenda posted at www.phe.gov/biodefense, on which the U.S. Government would specifically like to solicit comment. These questions concern such matters as the identification of gaps and opportunities for improvement in biodefense. Comments should be submitted to ASPRBIO@hhs.gov or the address above by May 1, 2019.

Dated: March 27, 2019.
Robert P. Kadlec,
Assistant Secretary for Preparedness and Response.

[FR Doc. 2019-06330 Filed 4-1-19; 8:45 am]

BILLING CODE 4150-37-P